DEPARTMENT OF COMMERCE

Foreign-Trade Zones Board

[Docket T-4-2012]

Foreign-Trade Zone 161—Sedgwick County, KS; Application for Temporary/Interim Manufacturing Authority; Siemens Energy, Inc.; (Wind Turbine Nacelles and Hubs); Hutchinson, KS

An application has been submitted to the Executive Secretary of the Foreign-Trade Zones Board (the Board) by the Board of County Commissioners of Sedgwick County, grantee of FTZ 161, requesting temporary/interim manufacturing (T/IM) authority within FTZ 161 at the Siemens Energy, Inc. (Siemens), facilities located in Hutchinson, Kansas. The application was filed on April 2, 2012.

The Siemens facilities (approximately 300 employees, up to 800 nacelles and hubs/year) are located at 1000 Commerce Street (Site 3) and 714 North Corey Road (Site 4) in Hutchinson (Reno County), Kansas. Under T/IM procedures, Siemens has requested authority to produce wind turbine nacelles and hubs (HTSUS 8412.80, 8412.90, 8502.31; duty rates: free, 2.5%). Foreign components that would be used in production (representing up to 50% of the value of the finished nacelles and hubs) include: greases/oils (HTSUS 2710.19), resins (3214.10), plastic/rubber washers and seals (3926.90), weather strips (4008.11), hydraulic hoses (4009.21, 4009.42), rubber gaskets and o-rings (4016.93), vibration dampeners (4016.99), screws/bolts (7318.15), bolt extenders (7318.19), springs (7320.20), clamps and brackets (7326.90), support adapters (7412.20), base metal mountings/fittings/brackets (8302.49), filters (8421.23), grease systems (8479.89), valves (8481.80), bearings (8482.10), gears (8483.40), ring modules (8483.90), nozzles (8487.90), motors (8501.20), generators (8501.64), plates/guides/cables (8503.00, 8544.49), slip rings (8535.90), cable glands (8536.90), electrical panels/boards (8537.10), lamps (8539.49), and sensors (9031.80) (duty rate range: free—9.0%, 1.3¢/kg + 5.7%). T/IM authority could be granted for a period of up to two years.

FTZ procedures could exempt Siemens from customs duty payments on the foreign components used in export production. On its domestic sales, Siemens would be able to choose the duty rates during customs entry procedures that apply to wind turbine nacelles and hubs (duty rate: free, 2.5%) for the foreign inputs noted above.

In accordance with the Board's regulations, Pierre Duy of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave. NW., Washington, DC 20230. The closing period for their receipt is May 7, 2012.

A copy of the application will be available for public inspection at the Office of the Foreign-Trade Zones Board's Executive Secretary at the address listed above, and in the “Reading Room” section of the Board's Web site, which is accessible via www.trade.gov/ftz. For further information, contact Pierre Duy at Pierre.Duy@trade.gov or (202) 482-1378.

Dated: April 2, 2012.
Elizabeth Whiteman,
Acting Executive Secretary.

[FR Doc. 2012-8380 Filed 4-5-12; 8:45 am]

BILLING CODE P